RAILROAD RETIREMENT BOARD

Proposed Collection; Comment Request

In accordance with the requirement of Section 3506(c)(2)(A) of the Paperwork Reduction Act of 1995, which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: RUIA Claims Notification and Verification System; OMB 3220-0171.

Section 5(b) of the Railroad Unemployment Insurance Act (RUIA) (45 U.S.C. 355), requires that effective January 1, 1990, when a claim for benefits is filed with the Railroad Retirement Board (RRB), the RRB shall provide notice of the claim to the claimant's base year employer(s) to provide them an opportunity to submit information relevant to the claim before making an initial determination. If the RRB determines to pay benefits to the claimant under the RUIA, the RRB shall notify the base-year employer(s).

The purpose of the RUIA Claims Notification and Verification System is to provide two notices, pre-payment Form ID-4K, Prepayment Notice of Employees' Applications and Claims for Benefits Under the Railroad Unemployment Insurance Act, and post-payment Form ID-4E, Notice of RUIA Claim Determination. Prepayment Form ID-4K provides notice to a claimant's base-year employer(s), of each unemployment application and unemployment and sickness claim filed for benefits under the RUIA and provides the employer an opportunity to convey information relevant to the proper adjudication of the claim.

The railroad employer can elect to receive Form ID-4K by one of three options: A computer-generated paper notice, by Electronic Data Interchange (EDI), or online via the RRB's Employer Reporting System (ERS). The railroad employer can respond to the ID-4K notice by telephone, manually by mailing a completed ID-4K back to the RRB, or electronically via EDI or ERS. Completion is voluntary. The RRB proposes to replace using EDI with the use of secure File Transfer Protocol (FTP), which is the standard network protocol used for transferring files between a railroad employer and the RRB. The RRB proposes no changes to the other versions of the ID-4K.

Once the RRB determines to pay a claim post-payment Form Letter ID-4E, Notice of RUIA Claim Determination, is used to notify the base-year employer(s). This gives the employer a second opportunity to challenge the claim for benefits.

The ID-4E mainframe-generated paper notice, EDI, and internet versions are transmitted on a daily basis, generally on the same day that the claims are approved for payment. Railroad employers who are mailed Form ID-4E are instructed to write if they want a reconsideration of the RRB's determination to pay. Employers who receive the ID-4E electronically, may file a reconsideration request by completing the ID-4E by either EDI or ERS. Completion is voluntary. The RRB proposes to replace using EDI with the use of secure File Transfer Protocol (FTP). The RRB proposes no changes to form ID-4K, ID-4K (Internet), ID-4E, and ID-4E (Internet).

Estimate of Annual Respondent Burden
Form No. | Annual responses | Time (minutes) | Burden (hours)
ID-4K (Manual) | 1,250 | 2 | 42
ID-4K (FTP) | 17,600 | (*) | 210
ID-4K (Internet) | 66,800 | 2 | 2,226
ID-4E (Manual) | 50 | 2 | 2
ID-4E (Internet) | 120 | 2 | 4
Total | 85,820 |  | 2,484
* The burden for the railroad employers receiving file transfer protocol (FTP) messages has been calculated in the following manner. We estimate that 10 minutes a day would be required on average for each of the 5 railroad employers to operate the system. Based on 251 workdays in a year, we calculate the number of burden hours to be 210 hours, of which we allocated 40 percent to unemployment transactions (84 burden hours) and 60 percent to sickness transactions (126 burden hours).

2. Title and purpose of information collection: Request for internet Services, OMB 3220-0198. The RRB uses a Personal Identification Number (PIN)/Password system that allows RRB customers to conduct business with the agency electronically. As part of the system, the RRB collects information needed to establish a unique PIN/Password that allows customer access to RRB internet-based services. The information collected is matched against records of the railroad employee that are maintained by the RRB. If the information is verified, the request is approved and the RRB mails a Password Request Code (PRC) to the requestor. If the information provided cannot be verified, the requestor is advised to contact the nearest field office of the RRB to resolve the discrepancy. Once a PRC is obtained from the RRB, the requestor can apply for a PIN/Password online. Once the PIN/Password has been established, the requestor has access to RRB internet-based services.

Completion is voluntary, however, the RRB will be unable to provide a PRC or allow a requestor to establish a PIN/Password (thereby denying system access), if the requests are not completed. The RRB proposes no changes to the PRC screens or the PIN/Password screens.

Estimate of Annual Respondent Burden
Form No. | Annual responses | Time (minutes) | Burden (hours)
Request PRC | 12,000 | 5.0 | 1,000
Establish Pin/Password | 16,000 | 1.5 | 400
Total | 28,000 |  | 1,400

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian D. Foster,
Clearance Officer.

[FR Doc. 2021-01627 Filed 1-25-21; 8:45 am]

BILLING CODE 7905-01-P